DEPARTMENT OF ENERGY

Federal Energy Regulatory Commission

[Project No. 13808-000; Project No. 13813-000]

Lock+ Hydro Friends Fund XLIX; FFP Missouri 14, LLC; Notice Announcing Filing Priority for Preliminary Permit Applications

January 19, 2011.

On January 18, 2011, the Commission held a drawing to determine priority between two competing preliminary permit applications with identical filing times. In the event that the Commission concludes that neither of the applicants' plans is better adapted than the other to develop, conserve, and utilize in the public interest the water resources of the region at issue, the priority established by this drawing will serve as the tiebreaker. Based on the drawing, the order of priority is as follows:

1. Lock+ Hydro Friends Fund XLIX: Project No. 13808-000.

2. FFP Missouri 14, LLC: Project No. 13813-000.

Nathaniel J. Davis, Sr.,
Deputy Secretary.

[FR Doc. 2011-1576 Filed 1-25-11; 8:45 am]

BILLING CODE 6717-01-P